DEPARTMENT OF THE TREASURY

Submission for OMB Review; Comment Request

December 18, 2008.

The Department of Treasury is planning to submit the following public information collection requirement(s) to OMB for review and clearance under the Paperwork Reduction Act of 1995, Public Law 104-13. Copies of the submission(s) may be obtained by calling the Treasury Bureau Clearance Officer listed. Comments regarding this information collection should be addressed to the reviewer listed and to the Treasury Department Clearance Officer, Department of the Treasury, Room 11020, 1750 Pennsylvania Avenue, NW., Washington, DC 20220.

DATES: Written comments should be received on or before February 27, 2009 to be assured of consideration.

Office of Procurement

OMB Number: 1505-0107.

Type of Review: Extension.

Title: Regulation Agency Protests.

Description: The information being collected is obtained from contractors as part of their submissions whenever they file a bid protest with the Department or any of its Bureaus. The information is used by Treasury officials in deciding how the protest should be resolved. Failure to collect this information would result in a non-uniform or unclear submission and delayed resolution of agency protests.

Respondents: Businesses and other for-profit institutions.

Estimated Total Reporting Burden: 46 hours.

OMB Number: 1505-0080.

Type of Review: Extension.

Title: Post-Contract Award Information.

Description: Information requested of contractors is specific to each contract and is required for Treasury to properly evaluate the progress made and/or management controls used by contractors providing supplies or services to the Government, and to determine contractors' compliance with the contracts, in order to protect the Government's interest.

Respondents: Businesses and other for-profit institutions.

Estimated Total Reporting Burden: 47,796 hours.

OMB Number: 1505-0081.

Type of Review: Extension.

Title: Solicitation of Proposal Information for Award of Public Contracts.

Description: Information requested of offerors is specific to each procurement solicitation, and is required for Treasury to properly evaluate the capabilities and experience of potential contractors who desire to provide the supplies or services to be acquired. Evaluation will be used to determine which proposal most benefits the Government.

Respondents: Businesses and other for-profit institutions.

Estimated Total Reporting Burden: 410,988 hours.

Clearance Officer: Jean Carter, Treasury Office of Procurement, 1500 Pennsylvania Avenue, Washington, DC 20220, (202) 622-6760.

OMB Reviewer: Nick Fraser (202) 395-5887, Office of Management and Budget, Room 10235, New Executive Office Building, Washington, DC 20503.

Robert Dahl,
Treasury PRA Clearance Officer.

[FR Doc. E8-30739 Filed 12-24-08; 8:45 am]

BILLING CODE 4810-25-P